DEPARTMENT OF THE INTERIOR

National Park Service

[N6761; NPS-WASO-NAGPRA-NPS0041525; PPWOCRADN0-PCU00RP14.R50000]

Notice of Inventory Completion: Haffenreffer Museum of Anthropology, Brown University, Bristol, RI

AGENCY: National Park Service, Interior.

ACTION: Notice.

SUMMARY: In accordance with the Native American Graves Protection and Repatriation Act (NAGPRA), the Haffenreffer Museum of Anthropology, Brown University (HMA) has completed an inventory of human remains and has determined that there is a cultural affiliation between the human remains and Indian Tribes or Native Hawaiian organizations in this notice.

DATES: Repatriation of the human remains in this notice may occur on or after January 20, 2026.

ADDRESSES: Send written requests for repatriation of the human remains in this notice to Kellie Bowers, Brown University, Haffenreffer Museum of Anthropology, 300 Tower Street, Bristol, RI 02889, email kellie_bowers@brown.edu.

SUPPLEMENTARY INFORMATION: This notice is published as part of the National Park Service's administrative responsibilities under NAGPRA. The determinations in this notice are the sole responsibility of the HMA, and additional information on the determinations in this notice, including the results of consultation, can be found in its inventory or related records. The National Park Service is not responsible for the determinations in this notice.

Abstract of Information Available

Human remains representing at least six individuals have been identified from the Seekonk Poor Farm in Seekonk, Massachusetts. No associated funerary objects are present. In 1962, human remains were discovered during earth removal operations and Maurice Robbins, of the Massachusetts Archaeological Society, was notified. Robbins then contacted Alex Ricciardelli, Acting Director of the HMA. Robbins removed three individuals from unmarked graves and Ricciardelli and a team of Brown University students removed three more.

Cultural Affiliation

Based on the information available and the results of consultation, cultural affiliation is reasonably identified by the geographical location or acquisition history of the human remains described in this notice.

Determinations

The HMA has determined that:

• The human remains described in this notice represent the physical remains of six individuals of Native American ancestry.

• There is a connection between the human remains described in this notice and the Mashpee Wampanoag Tribe and the Wampanoag Tribe of Gay Head (Aquinnah).

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after January 20, 2026. If competing requests for repatriation are received, the HMA must determine the most appropriate requestor prior to repatriation. Requests for joint repatriation of the human remains are considered a single request and not competing requests. The HMA is responsible for sending a copy of this notice to the Indian Tribes and Native Hawaiian organizations identified in this notice.

Authority: Native American Graves Protection and Repatriation Act, 25 U.S.C. 3003, and the implementing regulations, 43 CFR 10.10.

Dated: December 3, 2025.
Melanie O'Brien,
Manager, National NAGPRA Program.

[FR Doc. 2025-23206 Filed 12-17-25; 8:45 am]

BILLING CODE 4312-52-P